NUCLEAR REGULATORY COMMISSION

[Docket No. 50-461; NRC-2011-0050]

Clinton Power Station Notice of Withdrawal of Application for Amendment to Facility Operating License

The U.S. Nuclear Regulatory Commission (NRC, the Commission) has granted the request of Exelon Generation Company, LLC, to withdraw its March 3, 2010 application for proposed amendment to Facility Operating License No. NPF-62 for the Clinton Power Station, Unit 1, located in DeWitt County, Illinois.

The proposed amendment would have revised the Technical Specifications 3.1.7, to extend the completion time for Condition B (i.e., two standby liquid control subsystems inoperable) from 8 hours to 72 hours.

The Commission had previously issued a Notice of Consideration of Issuance of Amendment published in the Federal Register on May 4, 2010, 75 FR 23814. However, by letter dated February 22, 2011, the licensee withdrew the proposed change.

For further details with respect to this action, see the application for amendment dated March 3, 2010, and the licensee's letter dated February 22, 2011, which withdrew the application for license amendment. Documents may be examined, and/or copied for a fee, at the NRC's Public Document Room (PDR), located at One White Flint North, Room O1-F21, 11555 Rockville Pike (first floor), Rockville, Maryland 20852. Publicly available records will be accessible electronically from the Agencywide Documents Access and Management System (ADAMS) Public Electronic Reading Room on the Internet at the NRC Web site, http://www.nrc.gov/reading-rm/adams.html. Persons who do not have access to ADAMS or who encounter problems in accessing the documents located in ADAMS should contact the NRC PDR Reference staff by telephone at 1-800-397-4209, or 301-415-4737 or by e-mail to pdr.resource@nrc.gov.

Dated at Rockville, Maryland, this 28th day of February 2011.
For the Nuclear Regulatory Commission.
Nicholas J. DiFrancesco,
Project Manager, Plant Licensing Branch 3-2, Division of Operating Reactor Licensing, Office of Nuclear Reactor Regulation.

[FR Doc. 2011-4984 Filed 3-3-11; 8:45 am]

BILLING CODE 7590-01-P